LEGAL SERVICES CORPORATION

Sunshine Act Meeting

DATE AND TIME: The Legal Services Corporation's Board of Directors and its six committees will meet October 15-17, 2017. On Sunday, October 15, the first meeting will commence at 1:00 p.m., Eastern Daylight Time (EDT), with the meeting thereafter commencing promptly upon adjournment of the immediately preceding meeting. On Monday, October 16, the first meeting will commence at 8:30 a.m., EDT, with the next meeting commencing promptly upon adjournment of the immediately preceding meeting. On Tuesday, October 17, the first meeting will commence at 8:00 a.m., EDT and will be followed by the closed session meeting of the Board of Directors that will commence promptly upon adjournment of the prior meeting.

LOCATION: The Sheraton Commander Hotel, 16 Garden Street, Cambridge, MA 02138.

PUBLIC OBSERVATION: Unless otherwise noted herein, the Board and all committee meetings will be open to public observation. Members of the public who are unable to attend in person but wish to listen to the public proceedings may do so by following the telephone call-in directions provided below.

Call-In Directions for Open Sessions

• Call toll-free number: 1-866-451-4981;

• When prompted, enter the following numeric pass code: 5907707348

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule
| Time *
Sunday, October 15, 2017:
1. Operations & Regulations Committee | 1:00 p.m.
2. Delivery of Legal Services Committee
3. Institutional Advancement Committee
4. Communications Subcommittee of the Institutional Advancement Committee
5. Audit Committee
Monday, October 16, 2017:
1. Governance and Performance Review Committee | 8:30 a.m.
2. Finance Committee
Tuesday, October 17, 2017:
1. Board of Directors | 8:00 a.m.

STATUS OF MEETING: Open, except as noted below.

Board of Directors—Open, except that, upon a vote of the Board of Directors, a portion of the meeting may be closed to the public to hear briefings by management and LSC's Inspector General, and to consider and act on the General Counsel's report on potential and pending litigation involving LSC, and on a list of prospective funders.**

** Any portion of the closed session consisting solely of briefings does not fall within the Sunshine Act's definition of term ``meeting'' and, therefore, the requirements of the Sunshine Act do not apply to such portion of the closed session. 5 U.S.C. 552b(a)(2) and (b). See also 45 CFR 1622.2, 1622.3.

Institutional Advancement Committee—Open, except that, upon a vote of the Board of Directors, the meeting may be closed to the public to consider and act on recommendation of new prospective donors and to receive a briefing on the donor report.**

Audit Committee—Open, except that the meeting may be closed to the public to hear a briefing on the Office of Compliance and Enforcement's active enforcement matters.**

A verbatim written transcript will be made of the closed session of the Board, Institutional Advancement Committee, and Audit Committee meetings. The transcript of any portions of the closed sessions falling within the relevant provisions of the Government in the Sunshine Act, 5 U.S.C. 552b(c)(6) and (10), will not be available for public inspection. A copy of the General Counsel's Certification that, in his opinion, the closing is authorized by law will be available upon request.

Matters To Be Considered

October 15, 2017

Operations & Regulations Committee

Open Session

1. Approval of agenda

2. Approval of minutes of the Committee's Open Session meeting of July 21, 2017

3. Consider and act on Commencing Rulemaking to Repeal 45 CFR part 1603—State Advisory Councils

• Ron Flagg, General Counsel and Vice President for Legal Affairs

• Stefanie Davis, Assistant General Counsel

• Zoe Osterman, Law Fellow

4. Consider and act on Commencing Rulemaking to Adopt a new Touhy Rule for LSC Response Process for Subpoenas

• Ron Flagg, General Counsel and Vice President for Legal Affairs

• Stefanie Davis, Assistant General Counsel

• Kristin Martin, Law Fellow

5. Report on Information Management and Ensuring Accuracy of Grantee Data

• Carlos Manjarrez, Director, Office of Data Governance and Analysis

6. Public comment

7. Consider and act on other business

8. Consider and act on adjournment of meeting

October 15, 2017

Delivery of Legal Services Committee

Open Session

1. Approval of agenda

2. Approval of minutes of the Committee's Open Session meeting on July 20, 2017

3. Report on the status of LSC grantees impacted by Hurricanes Harvey, Irma and Maria

• Lynn Jennings, Vice President for Grants Management

4. Presentation on revisions to Performance Area 4

• Lynn Jennings, Vice President for Grants Management

5. Public comment

6. Consider and act on other business

7. Consider and act on motion to adjourn the meeting

October 15, 2017

Institutional Advancement Committee

Open Session

1. Approval of agenda

2. Approval of minutes of the Committee's Open Session meeting of July 21, 2017

3. Update on Leaders Council

• John G. Levi, Chairman of the Board

4. Development report

• Nadia Elguindy, Director of Institutional Advancement

5. Consider and act on expenditure of private funds to support Rural Summer Legal Corps

6. Public Comment

7. Consider and act on other business

8. Consider and act on motion to adjourn the open session meeting and proceed to a closed session

Closed Session

9. Approval of minutes of the Committee's Closed Session meeting of July 21, 2017

10. Development activities report

11. Consider and act on motion to approve Leaders Council invitees

12. Consider and act on other business

13. Consider and act on motion to adjourn the meeting

Communications Subcommittee of the Institutional Advancement Committee

Open Session

1. Approval of agenda

2. Approval of minutes of the Subcommittee's Open Session meeting of July 21, 2017

3. Communications analytics update

• Carl Rauscher, Director of Communications and Media Relations

4. Public comment

5. Consider and act on other business

6. Consider and act on motion to adjourn the meeting

October 15, 2017

Audit Committee

Open Session

1. Approval of agenda

2. Approval of minutes of the Committee's Open Session meeting on July 20, 2017

3. Briefing of Office of Inspector General

• John Seeba, Assistant Inspector General for Audits

4. Discussions with OIG pursuant to Section VIII A (3) and Section VIII (A) (4) of the Audit Committee Charter

5. Discussions with OIG, Management, and Castro and Company on the scope and plan for LSC's required annual audit, pursuant to Section VIII (A) (1) of the Committee Charter

• John Seeba, Assistant Inspector General for Audit

• David Richardson, Treasurer and Comptroller

6. Pursuant to Section VIII (C)(6) of the Committee Charter, review LSC's efforts, including training and education, to help ensure that LSC employees and grantees act ethically and safeguard LSC funds

• Ron Flagg, General Counsel and Vice President for Legal Affairs

• Lynn Jennings, Vice President for Grants Management

• Jeffrey Schanz, Inspector General

7. Management update regarding risk management

• Ron Flagg, General Counsel and Vice President for Legal Affairs

8. Briefing about follow-up by the Office of Compliance and Enforcement on referrals by the Office of Inspector General regarding audit reports and annual Independent Public audits of grantees

• Lora Rath, Director of Compliance and Enforcement

• John Seeba, Assistant IG for Audits

9. Report on OIG referral trends

• Lora Rath, Director, Office of Compliance and Enforcement

10. Public comment

11. Consider and act on other business

12. Consider and act on motion to adjourn the open session meeting and proceed to a closed session

Closed Session

13. Approval of minutes of the Committee's Closed Session meeting of July 20, 2017

14. Briefing by the Office of Compliance and Enforcement on active enforcement matter(s) and follow-up to open investigation referrals from the Office of Inspector General

• Lora Rath, Director of Compliance and Enforcement

15. Consider and act on adjournment of meeting

October 16, 2017

Governance and Performance Review Committee

Open Session

1. Approval of agenda

2. Approval of minutes of the Committee's Open Session meeting on July 20, 2017

3. Report on 2017 Board and Committee Evaluations

• Carol Bergman, Vice President for Government Relations & Public Affairs

4. Prioritization of future projects for support with private funding

• Jim Sandman, President

5. Report on transition

• Carol Bergman, Vice President for Government Relations & Public Affairs

• Ron Flagg, Vice President for Legal Affairs, General Counsel and Corporate Secretary

6. Report on foundation grants and LSC's research agenda

• Jim Sandman, President

7. Application of Sunshine Act to Evaluations of LSC Officers

• Jim Sandman, President

• Mark Freedman, Senior Associate General Counsel, Office of Legal Affairs

8. Consider and act on other business

9. Public comment

10. Consider and act on adjournment of meeting

October 16, 2017

Finance Committee

Open Session

1. Approval of agenda

2. Approval of minutes of the Committee's Open Session telephonic meeting on August 31, 2017

3. Presentation of LSC's Financial Reports for the eleven-month period ending August 31, 2017

• David Richardson, Treasurer/Comptroller

4. Report on status of FY 2018 appropriations process

• Carol Bergman, Vice President for Government Relations & Public Affairs

5. Consider and act on Resolution #2017-XXX, Temporary Operating Budget for FY 2018

• David Richardson, Treasurer/Comptroller

6. Report on status of FY 2019 appropriations request

• Carol Bergman, Director of Government Relations & Public Affairs

7. Public comment

8. Consider and act on other business

9. Consider and act on adjournment of meeting

October 17, 2017

Board of Directors

Open Session

1. Pledge of Allegiance

2. Approval of agenda

3. Approval of minutes of the Board's telephonic Open Session meeting of September 5, 2017

4. Chairman's Report

5. Members' Reports

6. President's Report

7. Update on state pro bono rule changes

8. Inspector General's Report

9. Consider and act on the report of the Operations and Regulations Committee

10. Consider and act on the report of the Delivery of Legal Services Committee

11. Consider and act on the report of the Institutional Advancement Committee

12. Consider and act on the report of the Audit Committee

13. Consider and act on the report of the Governance and Performance Review Committee

14. Consider and act on the report of the Finance Committee

15. Consider and act on Resolution 2017-XXX, in Recognition and Profound Appreciation of Distinguished Service by Mary E. McClymont

16. Public comment

17. Consider and act on other business

18. Consider and act on whether to authorize a closed session of the Board to address items listed below

Closed Session

1. Approval of minutes of the Board's Closed Session meeting of July 22, 2017

2. Management briefing

3. Inspector General briefing

4. Consider and act on list of prospective Leaders Council members

5. Consider and act on General Counsel's report on potential and pending litigation involving LSC

6. Consider and act on motion to adjourn the meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: September 28, 2017.
Katherine Ward,
Executive Assistant to the Vice President for Legal Affairs, General Counsel & Corporate Secretary.

[FR Doc. 2017-21261 Filed 9-28-17; 4:15 pm]

BILLING CODE 7050-01-P